DEPARTMENT OF TRANSPORTATION

Federal Aviation Administration

14 CFR Part 39

[Docket No. FAA-2015-2963; Directorate Identifier 2015-NM-016-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A319-131, -132, and -133 airplanes; Model A320-232 and -233 airplanes; and Model A321-131, -231, and -232 airplanes. This proposed AD was prompted by reports of forward engine mount attachment pins that were manufactured from discrepant raw material. This proposed AD would require identification and replacement of affected forward engine mount attachment pins. We are proposing this AD to prevent failure of a forward engine mount attachment pin, possible loss of an engine in-flight, and consequent reduced controllability of the airplane.

DATES: We must receive comments on this proposed AD by September 14, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. For Goodrich Aerostructures service information identified in this proposed AD, contact UTC Aerospace Systems, ATTN: Christopher Newth—V2500 A1/A5 Project Engineer, Aftermarket—Aerostructures; 850 Lagoon Drive, Chula Vista, CA; telephone 619-498-7505; email christopher.newth@utas.utc.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-2963; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2015-2963; Directorate Identifier 2015-NM-016-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2015-0004, dated January 13, 2015 (referred to after this as the Mandatory Continuing Airworthiness Information, or “the MCAI”), to correct an unsafe condition for all Airbus Model A319-131, -132, and -133 airplanes; Model A320-232 and -233 airplanes; and Model A321-131, -231, and -232 airplanes. The MCAI states:

A number of forward engine mount pins, Part Number (P/N) 740-2022-501, intended for IAE V2500 series engines, have been reported as non-compliant with the current certification requirements, due to a quality issue during manufacturing of the raw material. It was also determined that a batch of 88 affected pins are installed on in-service aeroplanes fitted with forward engine mount P/N 745-2010-503 and the serial numbers (s/n) of the affected pins and the [manufacturer serial number] MSN of the related aeroplanes have been identified.

This condition, if not corrected, could lead to forward engine mount pin failure, possibly resulting in in-flight loss of an engine and consequent reduced control of the aeroplane.

For the reasons described above, this [EASA] AD requires identification of the affected forward engine mount pins and removal from service [replacement] of those pins.

You may examine the MCAI in the AD docket on the Internet at http://www.regulations.gov by searching for and locating Docket No. FAA-2015-2963.

Related Service Information Under 1 CFR Part 51

Airbus has issued Service Bulletin A320-71-1064, dated November 5, 2014; and Goodrich Aerostructures has issued Service Bulletin V2500-NAC-71-0323, dated September 18, 2014. The service information describes procedures for an inspection to determine the serial number of the attachment pins for the forward engine mount crossbeam to main beam for each engine, and replacement of affected pins. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Explanation of “RC” Procedures and Tests in Service Information

The FAA worked in conjunction with industry, under the Airworthiness Directive Implementation Aviation Rulemaking Committee (ARC), to enhance the AD system. One enhancement was a new process for annotating which procedures and tests in the service information are required for compliance with an AD. Differentiating these procedures and tests from other tasks in the service information is expected to improve an owner's/operator's understanding of crucial AD requirements and help provide consistent judgment in AD compliance. The procedures and tests identified as RC (required for compliance) in any service information have a direct effect on detecting, preventing, resolving, or eliminating an identified unsafe condition.

As specified in a NOTE under the Accomplishment Instructions of the specified Airbus service information, procedures and tests identified as RC must be done to comply with the proposed AD. However, procedures and tests that are not identified as RC are recommended. Those procedures and tests that are not identified as RC may be deviated from using accepted methods in accordance with the operator's maintenance or inspection program without obtaining approval of an alternative method of compliance (AMOC), provided the procedures and tests identified as RC can be done and the airplane can be put back in a serviceable condition. Any substitutions or changes to procedures or tests identified as RC will require approval of an AMOC.

Costs of Compliance

We estimate that this proposed AD affects 922 airplanes of U.S. registry.

We also estimate that it would take about 2 work-hours per product to comply with the basic requirements of this proposed AD. The average labor rate is $85 per work-hour. Required parts would cost about $0 per product. Based on these figures, we estimate the cost of this proposed AD on U.S. operators to be $156,740, or $170 per product.

In addition, we estimate that any necessary follow-on actions would take about 4 work-hours and require parts costing $1,724, for a cost of $2,064 per attachment pin replacement. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2015-2963; Directorate Identifier 2015-NM-016-AD.

(a) Comments Due Date

We must receive comments by September 14, 2015.

(b) Affected ADs

None.

(c) Applicability

This AD applies to the Airbus airplanes identified in paragraphs (c)(1), (c)(2), and (c)(3) of this AD, certificated in any category, all manufacturer serial numbers.

(1) Model A319-131, -132, and -133 airplanes.

(2) Model A320-232 and -233 airplanes.

(3) Model A321-131, -231, and -232 airplanes.

(d) Subject

Air Transport Association (ATA) of America Code 71, Power Plant.

(e) Reason

This AD was prompted by reports of forward engine mount attachment pins that were manufactured from discrepant raw material. We are issuing this AD to prevent failure of a forward engine mount attachment pin, possible loss of an engine in-flight, and consequent reduced controllability of the airplane.

(f) Compliance

Comply with this AD within the compliance times specified, unless already done.

(g) Identification of Part Numbers for Forward Engine Mount and Attachment Pins

Except as provided by paragraph (i) of this AD, at the earliest of the times specified in paragraphs (g)(1) through (g)(4) of this AD: For each engine, identify the part number of the forward engine mount, and the part number and serial number of the attachment pin for that forward engine mount, in accordance with the Accomplishment Instructions of Airbus Service Bulletin A320-71-1064, dated November 5, 2014; and Goodrich Aerostructures Service Bulletin V2500-NAC-71-0323, dated September 18, 2014. A review of airplane maintenance records is acceptable in lieu of this identification if the part number of the forward engine mount, and the part number and serial number of the attachment pin for that forward engine mount can be conclusively determined from that review. If any part number of the forward engine mount, or part number or serial number of the attachment pins for the forward engine mount, cannot be identified: At the earliest of the times specified in paragraphs (g)(1) through (g)(4) of this AD, contact the Manager, International Branch, ANM-116, Transport Airplane Directorate, FAA; or the European Aviation Safety Agency (EASA); or Airbus's EASA Design Organization Approval (DOA), for identification information.

(1) Within 24 months after the effective date of this AD.

(2) At the next engine removal after the effective date of this AD.

(3) Within 7,500 flight hours after the effective date of this AD.

(4) Within 5,000 flight cycles after the effective date of this AD.

(h) Corrective Actions

If, during any identification required by paragraph (g) of this AD, a forward engine mount having part number (P/N) 745-2010-503 is found, and the attachment pin has P/N 740-2022-501 with any serial number that is included in figure 1 to paragraphs (h) and (j) of this AD: At the earliest of the times specified in paragraphs (g)(1) through (g)(4) of this AD, replace the affected attachment pin with a serviceable part having a part number other than P/N 740-2022-501, and having a serial number that is not identified in figure 1 to paragraphs (h) and (j) of this AD, in accordance with the Accomplishment Instructions of Airbus Service Bulletin A320-71-1064, dated November 5, 2014; and Goodrich Aerostructures Service Bulletin V2500-NAC-71-0323, dated September 18, 2014.

Figure 1 to Paragraphs (h) and (j) of This AD—Part Numbers and Serial Numbers of Affected Forward Engine Mounts and Attachment Pins
Serial Nos.: Attachment Pin (P/N 740-2022-501) | Serial Nos.: Forward Engine Mount (P/N 745-2010-503)
1396SC | 13665001
1391SC | 13655001
1412SC | 13689001
1402SC | 13669001
1409SC | 13683001
1416SC | 13697001
1418SC | 13701001
1417SC | 13699001
1414SC | 13693001
1415SC | 13695001
1420SC | 13705001
1421SC | 13707001
1422SC | 13709001
1436SC | 13737001
1438SC | 13741001
1452SC | 13769001
1456SC | 13777001
1397SC | 13667001
1432SC | 13729001
1405SC | 13675001
1411SC | 13687001
1389SC | 13651001
1392SC | 13657001
1382SC | 13637001
1384SC | 13641001
1407SC | 13679001
1408SC | 13681001
1395SC | 13663001
1406SC | 13677001
1383SC | 13639001
1404SC | 13673001
1393SC | 13659001
1413SC | 13691001
1386SC | 13645001
1388SC | 13649001
1390SC | 13653001
1410SC | 13685001
1423SC | 13711001
1424SC | 13713001
1403SC | 13671001
1419SC | 13703001
1385SC | 13643001
1387SC | 13647001
1431SC | 13727001
1433SC | 13731001
1425SC | 13715001
1428SC | 13721001
1429SC | 13723001
1430SC | 13725001
1427SC | 13719001
1434SC | 13733001
1442SC | 13749001
1394SC | 13661001
1441SC | 13747001
1426SC | 13717001
1437SC | 13739001
1439SC | 13743001
1443SC | 13751001
1448SC | 13761001
1435SC | 13735001
1440SC | 13745001
1454SC | 13773001
1455SC | 13775001
1451SC | 13767001
1453SC | 13771001
1444SC | 13753001
1450SC | 13765001
1461SC | 13787001
1469SC | 13817001
1480SC | 13839001
1481SC | 13841001
1446SC | 13757001
1449SC | 13763001
1467SC | 13813001
1445SC | 13755001
1462SC | 13789001
1464SC | 13793001
1466SC | 13811001
1470SC | 13819001
1459SC | 13783001
1463SC | 13791001
1475SC | 13829001
1458SC | 13781001
1477SC | 13833001
1474SC | 13827001
1478SC | 13835001
1479SC | 13837001
1472SC | 13823001

(i) Exception to Paragraph (g) of This AD

For airplanes with manufacturer serial numbers identified in figure 2 to paragraph (i) of this AD: If it can be conclusively determined that an engine has not been replaced after March 1, 2011 (the date of manufacture of the first airplane with affected engine mounts), the airplane is not affected by the requirements of paragraphs (g) and (h) of this AD.

Figure 2 to Paragraph (i) of This AD—Airplane Manufacturer Serial Numbers
Airplane manufacturer serial Nos.
4593
4602
4620
4637
4638
4642
4643
4644
4660
4677
4690
4696
4700
4701
4703
4706
4707
4710
4716
4719
4725
4726
4731
4736
4737
4741
4746
4751
4752
4753
4754
4755
4757
4761
4762
4772
4773
4774
4775
4779
4782
4783
4784
4786
4788
4790
4791
4798
4804
4813

(j) Parts Installation Prohibition

As of the effective date of this AD, no person may install on any airplane any engine mount attachment pin having P/N 740-2022-501 with a serial number identified in figure 1 to paragraphs (h) and (j) of this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in a serviceable condition. Any substitutions or changes to procedures or tests identified as RC require approval of an AMOC.

(l) Special Flight Permits Prohibited

Special flight permits, as described in Section 21.197 and Section 21.199 of the Federal Aviation Regulations (14 CFR 21.197 and 21.199), are not allowed.

(m) Related Information

(1) Refer to Mandatory Continuing Airworthiness Information (MCAI) EASA Airworthiness Directive 2015-0004, dated January 13, 2015, for related information. This MCAI may be found in the AD docket on the Internet at http://www.regulations.gov by searching for and locating Docket No. FAA-2015-2963.

(2) For Airbus service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. For Goodrich Aerostructures service information identified in this AD, contact UTC Aerospace Systems, ATTN: Christopher Newth—V2500 A1/A5 Project Engineer, Aftermarket—Aerostructures; 850 Lagoon Drive, Chula Vista, CA; telephone 619-498-7505; email christopher.newth@utas.utc.com. You may view this service information at the FAA, Transport Airplane Directorate, 1601 Lind Avenue SW., Renton, WA. For information on the availability of this material at the FAA, call 425-227-1221.

Issued in Renton, Washington, on July 17, 2015.
Michael Kaszycki,
Acting Manager, Transport Airplane Directorate, Aircraft Certification Service.

[FR Doc. 2015-18533 Filed 7-29-15; 8:45 am]

BILLING CODE 4910-13-P